ENVIRONMENTAL PROTECTION AGENCY

40 CFR Parts 158 and 161

[EPA-HQ-OPP-2008-0110; FRL-8388-7]

Pesticides; Data Requirements for Antimicrobial Pesticides; Notice of Public Workshop

AGENCY: Environmental Protection Agency (EPA).

ACTION: Proposed rule; supplemental information about public workshop; availability of web conference.

SUMMARY: This notice provides supplemental information to the notice published on October 10, 2008, that announced the scheduling of a November 6, 2008, public workshop to explain the provisions of its recently proposed rule to update and revise the data requirements for registration of antimicrobial pesticides. EPA has arranged for a web conference for those persons who cannot attend in-person the public workshop. The workshop is intended to provide an opportunity for members of the public to ask questions about the proposed rule and seek any clarification they believe may assist them in submitting comments to the docket for the proposed rule. Any person wishing to comment on the proposed rule must submit any comments to the docket within the timeframe set forth in the Notice of Proposed Rulemaking.

DATES: The meeting will be held on November 6, 2008, from 8:30 a.m. to 4 p.m.

To request accommodation of a disability, please contact the person listed under FOR FURTHER INFORMATON CONTACT, preferably at least 10 days prior to the meeting, to give EPA as much time as possible to process your request.

ADDRESSES: The meeting will be held at the Office of Pesticide Programs (OPP), First Floor Conference Center, One Potomac Yard (South Bldg.), 2777 S. Crystal Dr., Arlington, VA 22202.

To facilitate the Agency's planning, your intention to participate in the web conference for the Antimicrobials Workshop, may be submitted to the person listed under FOR FURTHER INFORMATION CONTACT.

FOR FURTHER INFORMATION CONTACT: Amaris Johnson, Field and External Affairs Division, Office of Pesticide Programs, Environmental Protection Agency, 1200 Pennsylvania Ave., NW., Washington, DC 20460-0001; telephone number: (703) 305-9542; fax number: (703) 305-5884; e-mail address:johnson.amaris@epa.gov.

SUPPLEMENTARY INFORMATION:

I. General Information

A. Does this Action Apply to Me?

You may be affected by this action if you are a producer of pesticide products (NAICS 32532), antifoulants (NAICS 32551), antimicrobial pesticides (NAICS 32561) or wood preservatives (NAICS 32519), importers of such products, or any person or company who seeks to register an antimicrobial, antifoulant coating, ballast water treatment, or wood preservative pesticide or to obtain a tolerance for such a pesticide. This listing is not intended to be exhaustive, but rather provides a guide for readers regarding entities likely to be affected by this action. Other types of entities not listed above could also be affected. The North American Industrial Classification System (NAICS) codes have been provided to assist you and others in determining whether this action might apply to certain entities. If you have any questions regarding the applicability of this action to a particular entity, please contact Norm Cook, Chief of the Risk Assessment and Science Support Branch in the Antimicrobials Division of the Office of Pesticide Programs at (703) 308-8253 or via email, cook.norm@epa.gov.

B. How Can I Get Copies of this Document and Other Related Information?

1. Docket. EPA has established a docket for this action under docket ID number EPA-HQ-OPP-2008-0110. Publicly available docket materials are available either in the electronic docket at http://www.regulations.gov, or, if only available in hard copy, at the Office of Pesticide Programs (OPP) Regulatory Public Docket in Rm. S-4400, One Potomac Yard (South Bldg.), 2777 S. Crystal Dr., Arlington, VA 22202. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

EPA is convening a public workshop to explain the proposed revisions to the data requirements for the registration of antimicrobial pesticides. Under the Federal Insecticide, Fungicide, and Rodenticide Act (FIFRA) and the Federal Food, Drug, and Cosmetic Act (FFDCA), anyone seeking to register a pesticide product is required to provide information to EPA to demonstrate that their products can be used without posing “unreasonable adverse effects on the environment” as defined by FIFRA section 2(bb).

The public workshop will include presentations by staff from the Antimicrobial, and the Field and External Affairs Divisions of the Office of Pesticide Programs. The proposed revisions are directed at antimicrobial pesticides, not conventional pesticides, biochemical and microbial pesticides or product performance data requirements. Nonetheless, all interested parties are welcome and may benefit from the discussions since two areas not addressed in the conventional pesticide (72 FR 60934, October 26, 2007) (FRL-8106-5), or biochemical and microbial pesticide (72 FR 60988, October 26, 2007) (FRL-8109-8) data requirements final rules are addressed in the antimicrobial data requirements proposed rule. These two areas are: Down-the-drain data requirements and the Program's use of structure-activity-relationship (SAR).

During the workshop, persons in attendance will be able to ask questions regarding the proposed rule and/or material being presented and seek any clarification they believe may assist them in submitting comments to the docket for the proposed rule. Any person wishing to comment on the proposed rule must submit any comments to the docket within the timeframe set forth in the Notice of Proposed Rulemaking.

The proposed revisions were issued in the Federal Register of October 8, 2008 (73 FR 59382) (FRL-8358-2). A 90-day comment period will end on January 6, 2008. The notice of the workshop was published on October 10, 2008 (73 FR 60211) (FRL-8383-6). A limited number of copies of the proposed rule will be available at the workshop. Attendees are encouraged to access the electronic version of the proposed rule from the regulations.gov website under Docket ID number EPA-HQ-OPP-2008-0110.

The Agency has arranged for a web conference to serve as an alternate means of participating in the workshop. You can join the web conference starting at 8 a.m. on November 6, 2008. To access the web conference go to http://portal.epa.gov/webconference, and complete the Join Conference box on the right of the screen using the following information: Conference ID: 309742 and Conference Key: 12345. Type in your full name and then select: Join Conference. For the audio portion call (866) 299-3188 and then use code 7033056304#. Additional information on web conferencing can be accessed from the regulations.gov website under Docket ID number EPA-HQ-OPP-2008-0110.

List of Subjects

Environmental protection, Administrative practice and procedure, Agricultural commodities, Pesticides and pests, Reporting and recordkeeping requirements.

Dated: October 17, 2008.
Martha Monell,
Acting Director, Office of Pesticide Programs.

[FR Doc. E8-25350 Filed 10-22-08; 8:45 am]

BILLING CODE 6560-50-S